DEPARTMENT OF ENERGY

Federal Energy Regulatory Commission

Combined Notice of Filings #1

Take notice that the Commission received the following electric corporate filings:

Docket Numbers: EC25-25-000.

Applicants: Heritage Power, LLC, Blossburg Power, LLC, Brunot Island Power, LLC, Gilbert Power, LLC, Hamilton Power, LLC, Heritage Power Marketing, LLC, Hunterstown Power, LLC, Mountain Power, LLC, New Castle Power, LLC, Niles Power, LLC, Orrtanna Power, LLC, Portland Power, LLC, Sayreville Power, LLC, Shawnee Power, LLC, Shawville Power, LLC, Titus Power, LLC, Tolna Power, LLC, Warren Generation, LLC.

Description: Application for Authorization Under Section 203 of the Federal Power Act of Heritage Power, LLC.

Filed Date: 11/27/24.

Accession Number: 20241127-5351.

Comment Date: 5 p.m. ET 12/18/24.

Take notice that the Commission received the following electric rate filings:

Docket Numbers: ER21-2082-003.

Applicants: Citizens S-Line Transmission LLC.

Description: Compliance filing: Clarification and Request for Expedited Consideration to be effective 12/31/9998.

Filed Date: 12/2/24.

Accession Number: 20241202-5223.

Comment Date: 5 p.m. ET 12/23/24.

Docket Numbers: ER25-599-000.

Applicants: Black Hills Colorado Electric, LLC.

Description: § 205(d) Rate Filing: Re-Filing of Jurisdictional Agreements to be effective 2/1/2025.

Filed Date: 12/2/24.

Accession Number: 20241202-5048.

Comment Date: 5 p.m. ET 12/23/24.

Docket Numbers: ER25-600-000.

Applicants: PJM Interconnection, L.L.C.

Description: § 205(d) Rate Filing: Amendment to ISA, Service Agreement No. 7029; Queue No. AD2-047 to be effective 2/1/2025.

Filed Date: 12/2/24.

Accession Number: 20241202-5054.

Comment Date: 5 p.m. ET 12/23/24.

Docket Numbers: ER25-601-000.

Applicants: Alabama Power Company, Georgia Power Company, Mississippi Power Company.

Description: § 205(d) Rate Filing: Alabama Power Company submits tariff filing per 35.13(a)(2)(iii: West Atlanta Energy Storage LGIA Filing to be effective 11/19/2024.

Filed Date: 12/2/24.

Accession Number: 20241202-5093.

Comment Date: 5 p.m. ET 12/23/24.

Docket Numbers: ER25-602-000.

Applicants: Alabama Power Company, Georgia Power Company, Mississippi Power Company.

Description: § 205(d) Rate Filing: Alabama Power Company submits tariff filing per 35.13(a)(2)(iii: GA Solar 5 (Hickory Solar) Second Amended and Restated LGIA Filing to be effective 11/15/2024.

Filed Date: 12/2/24.

Accession Number: 20241202-5096.

Comment Date: 5 p.m. ET 12/23/24.

Docket Numbers: ER25-603-000.

Applicants: PJM Interconnection, L.L.C.

Description: § 205(d) Rate Filing: Amendment to GIA SA No. 7235; NQ212 to be effective 2/1/2025.

Filed Date: 12/2/24.

Accession Number: 20241202-5139.

Comment Date: 5 p.m. ET 12/23/24.

Docket Numbers: ER25-604-000.

Applicants: Tri-State Generation and Transmission Association, Inc.

Description: § 205(d) Rate Filing: Amendment to Rate Schedule FERC No. 2 to be effective 2/1/2025.

Filed Date: 12/2/24.

Accession Number: 20241202-5142.

Comment Date: 5 p.m. ET 12/23/24.

Docket Numbers: ER25-605-000.

Applicants: PJM Interconnection, L.L.C.

Description: § 205(d) Rate Filing: Amendment to ISA SA No. 5472; Queue #AD2-194 to be effective 2/1/2025.

Filed Date: 12/2/24.

Accession Number: 20241202-5147.

Comment Date: 5 p.m. ET 12/23/24.

Docket Numbers: ER25-606-000.

Applicants: PJM Interconnection, L.L.C.

Description: § 205(d) Rate Filing: Amendment to ISA, Service Agreement No. 5861; Queue No. AB2-070/AF2-305/AG1-398 to be effective 2/1/2025.

Filed Date: 12/2/24.

Accession Number: 20241202-5149.

Comment Date: 5 p.m. ET 12/23/24.

Docket Numbers: ER25-607-000.

Applicants: Tri-State Generation and Transmission Association, Inc.

Description: § 205(d) Rate Filing: Initial Filing of Service Agreement No. 926 to be effective 12/31/9998.

Filed Date: 12/2/24.

Accession Number: 20241202-5151.

Comment Date: 5 p.m. ET 12/23/24.

Docket Numbers: ER25-608-000.

Applicants: Morongo Transmission LLC.

Description: § 205(d) Rate Filing: Annual TRBAA Filing 2025 to be effective 1/1/2025.

Filed Date: 12/2/24.

Accession Number: 20241202-5156.

Comment Date: 5 p.m. ET 12/23/24.

Docket Numbers: ER25-609-000.

Applicants: Morongo Transmission LLC.

Description: § 205(d) Rate Filing: Operating Cost True-Up 2025 to be effective 1/1/2025.

Filed Date: 12/2/24.

Accession Number: 20241202-5160.

Comment Date: 5 p.m. ET 12/23/24.

Docket Numbers: ER25-611-000.

Applicants: PJM Interconnection, L.L.C.

Description: § 205(d) Rate Filing: Original NSA, Service Agreement No. 7416; AD1-025 to be effective 2/3/2025.

Filed Date: 12/2/24.

Accession Number: 20241202-5184.

Comment Date: 5 p.m. ET 12/23/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 2, 2024.
Carlos D. Clay,
Acting Deputy Secretary.

[FR Doc. 2024-28572 Filed 12-5-24; 8:45 am]

BILLING CODE 6717-01-P